FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than December 31, 2019.

A. Federal Reserve Bank of Kansas City (Dennis Denney, Assistant Vice President) 1 Memorial Drive, Kansas City, Missouri 64198-0001:

1. Terri K. Boggess Revocable Trust, Terri K. Boggess, trustee, both of Chillicothe, Missouri; the Hal Boggess Revocable Trust, Hal Boggess, trustee, both of Chillicothe, Missouri; Gwendolyn Elaine Luzader, Gardner, Kansas; Joshua Seth Boggess, Normal, Illinois; the Linda D. Osborn Revocable Trust, Linda D. Osborn, trustee, both of Bethany, Missouri; Linda D. Osborn; the Ervin Cole Osborn Revocable Trust, Ervin Cole Osborn, trustee, both of Bethany, Missouri; Ervin Cole Osborn; the Diana L. Wheeler Trust, Paul Wheeler, trustee, both of Overland Park, Kansas; Justin P. Wheeler, Portland, Oregon; and Cole D. Wheeler, Kansas City, Kansas; as members acting in concert with the Boggess/Osborn/Wheeler Family Group to retain voting shares of Bethany Bankshares, Inc., and thereby indirectly retain voting shares of BTC Bank, both of Bethany, Missouri.

2. Emery E. Fager Exempt Trust DTD 12/28/14, Duane L. Fager and Jane A. Anderson, co-trustees; and the Emery E. Fager Marital Exempt Trust DTD 12/28/14, Duane L. Fager and Jane A. Anderson, co-trustees, all of Topeka, Kansas; as members of a group acting in concert to retain voting shares of Commerce Bank and Trust Holding Company and thereby indirectly retain voting shares of CoreFirst Bank & Trust, both of Topeka, Kansas. In addition, the Elizabeth F. Fager Trust, Elizabeth F. Fager, trustee, both of Topeka, Kansas, as a member of the group acting in concert, to acquire voting shares of Commerce Bank and Trust Holding Company and thereby indirectly acquire voting shares of CoreFirst Bank & Trust.

3. David S. Fricke, individually, and as Plan Administrator of the Commerce Bank and Trust Holding Company Employee Stock Ownership Plan, both of Topeka, Kansas; together with Linda A. Fricke; the Brandon D. Fricke QSST Trust, David S. Fricke, trustee; the Lauren Hillary Fricke QSST Trust, David S. Fricke, trustee; and the Noah Morgan Fricke QSST Trust, David S. Fricke, trustee; all of Topeka, Kansas; as members of a group acting in concert to acquire voting shares of Commerce Bank and Trust Holding Company and thereby indirectly acquire voting shares of CoreFirst Bank & Trust, both of Topeka, Kansas.

4. John Traw, Vian, Oklahoma, as trustee of The Sloan Armstrong Living Trust; to acquire voting shares of Ironhorse Financial Group, Inc., and thereby indirectly acquire voting shares of Armstrong Bank, both of Muskogee, Oklahoma, and Republic Bank and Trust, Norman, Oklahoma.

In addition, John Traw, Vian, Oklahoma; the Ashton McNeil Armstrong 2018 GST Exempt Trust, John Traw, trustee; the Sloan Armstrong Hart 2018 GST Exempt Trust, John Traw, trustee; Norma Lugene Armstrong, Vian, Oklahoma, as trustee of the Bruce McNeill Trust and the Jean McNeill Trust; Dale Brent Bumpers, Little Rock, Arkansas, as co-trustee of the Brent Alexander Bumpers Irrevocable Trust and the Margaret Aston Bumpers Irrevocable Trust; Kelsi Don Farmer, New York, New York, as co-trustee of the Brent Alexander Bumpers Irrevocable Trust and the Margaret Aston Bumpers Irrevocable Trust; and Courtney Quidley, Bixby, Oklahoma, as trustee of Elizabeth Ann Hensley Irrevocable Trust and the Allison Jane Hensley Irrevocable Trust, to join as members of the Armstrong Family Control Group, which controls Ironhorse Financial Group, Inc., and thereby indirectly controls Armstrong Bank and Republic Bank and Trust.

B. Federal Reserve Bank of Boston (Prabal Chakrabarti, Senior Vice President) 600 Atlantic Avenue, Boston, Massachusetts 02210-2204. Comments can also be sent electronically to BOS.SRC.Applications.Comments@bos.frb.org:

1. Sloane Family Enterprises, LP, Barbara J. Sloane, Barry R. Sloane, and Linda Sloane Kay, as general partners, all of Medford, Massachusetts; as members of a group acting in concert to acquire voting shares of Century Bancorp, Inc., Medford, Massachusetts, and thereby indirectly acquire voting shares of Century Bank and Trust Company, Somerville, Massachusetts.

Board of Governors of the Federal Reserve System, December 10, 2019.
Yao-Chin Chao,
Assistant Secretary of the Board.

[FR Doc. 2019-26972 Filed 12-13-19; 8:45 am]

BILLING CODE P